DEPARTMENT OF LABOR

Office of the Secretary

All Items Consumer Price Index for All Urban Consumers; United States City Average

Pursuant to Section 33105(c) of Title 49, United States Code, and the delegation of the Secretary of Transportation's responsibilities under that Act to the Administrator of the Federal Highway Administration (49 CFR 501.2(a)(9)), the Secretary of Labor has certified to the Administrator and published this notice in the Federal Register that the United States City Average All Items Consumer Price Index for All Urban Consumers (1967 = 100) increased 131.1 percent from its 1984 annual average of 311.1 to its 2016 annual average of 718.955.

Signed at Washington, DC, on March 29, 2017.
Edward C. Hugler,
Acting Secretary of Labor.

[FR Doc. 2017-07831 Filed 4-17-17; 8:45 am]

BILLING CODE 4510-24-P